DEPARTMENT OF ENERGY

Federal Energy Regulatory Commission

Notice of Commission Staff Attendance at Midwest Iso-Related Meetings

May 3, 2007.

The Federal Energy Regulatory Commission hereby gives notice that members of the Commission and Commission staff may attend the following Midwest ISO-related meetings:

• Reliability First and Midwest Reliability Organization Resource Adequacy Conference (9 a.m.-4:30 p.m., ET)

○ May 10, 2007.

Marriott Downtown Indianapolis, 350 West Maryland Street, Indianapolis, Indiana.

• Midwest ISO Supply Adequacy Working Group/OMS Resource Adequacy Working Group (1 p.m.-5 p.m., ET)

○ May 17, 2007.

Lakeside Conference Center, 630 West Carmel Drive, Carmel, IN 46032.

Further information may be found at http://www.midwestiso.org and http://www.rfirst.org.

The discussions at each of the meetings described above may address matters at issue in the following proceedings:

Docket No. ER02-2595, Midwest Independent Transmission System Operator, Inc.

Docket No. ER04-375, Midwest Independent Transmission System Operator, Inc.

Docket No. ER04-458, Midwest Independent Transmission System Operator, Inc.

Docket Nos. ER04-691 and ER04-106, Midwest Independent Transmission System Operator, Inc.

Docket No. EL04-104, Public Utilities With Grandfathered Agreements In the Midwest ISO Region

Docket Nos. ER05-6, EL04-135, EL02-111 and EL03-212, Midwest Independent Transmission System Operator, Inc.

Docket No. ER05-752, Midwest Independent Transmission System Operator, Inc. and PJM Interconnection, L.L.C.

Docket No. ER05-1083, Midwest Independent Transmission System Operator, Inc.

Docket No. ER05-1085, Midwest Independent Transmission System Operator, Inc.

Docket No. ER05-1138, Midwest Independent Transmission System Operator, Inc.

Docket No. ER05-1201, Midwest Independent Transmission System Operator, Inc.

Docket No. ER05-1230, Midwest Independent Transmission System Operator, Inc.

Docket No. EL05-103, Northern Indiana Power Service Co. v. Midwest Independent Transmission System Operator, Inc. and PJM Interconnection, L.L.C.

Docket No. EL05-128, Quest Energy, L.L.C. v. Midwest Independent Transmission System Operator, Inc.

Docket No. ER06-18, Midwest Independent Transmission System Operator, Inc.

Docket No. ER06-27, Midwest Independent Transmission System Operator, Inc.

Docket Nos. EC06-4 and ER06-20, E.ON U.S., LLC

Docket No. ER06-1308, Midwest Independent Transmission System Operator, Inc.

Docket Nos. ER06-360, ER06-360, ER06-361, ER06-362, ER06-363, ER06-372 and ER06-373, Midwest Independent Transmission System Operator, Inc.

Docket No. ER06-356, Midwest Independent Transmission System Operator, Inc.

Docket No. ER06-532, Midwest Independent Transmission System Operator, Inc.

Docket No. ER06-313, Midwest Independent Transmission System Operator, Inc.

Docket No. EL06-31, Midwest Independent Transmission System Operator, Inc.

Docket No. EL06-49, Midwest Independent Transmission Systemerator, Inc.

Docket No. ER06-56, Midwest Independent Transmission System Operator, Inc.

Docket No. ER07-478, Midwest Independent Transmission System Operator, Inc.

Docket No. ER07-550, Midwest Independent Transmission System Operator, Inc.

Docket No. ER07-701, Midwest Independent Transmission System Operator, Inc.

These meetings are open to the public.

For more information, contact Patrick Clarey, Office of Energy Markets and Reliability, Federal Energy Regulatory Commission at (317) 249-5937 or patrick.clarey@ferc.gov, or Christopher Miller, Office of Energy Markets and Reliability, Federal Energy Regulatory Commission at (317) 249-5936 or christopher.miller@ferc.gov.

Kimberly D. Bose,
Secretary.

[FR Doc. E7-8935 Filed 5-9-07; 8:45 am]

BILLING CODE 6717-01-P